DEPARTMENT OF COMMERCE

National Oceanic and Atmospheric Administration

RIN 0648-XB16

Marine Mammals; File No. 814-1899

AGENCY: National Marine Fisheries Service (NMFS), National Oceanic and Atmospheric Administration (NOAA), Commerce.

ACTION: Notice; issuance of permit.

SUMMARY: Notice is hereby given that North Slope Borough Department of Wildlife Management, P.O. Box 69, Barrow, AK 99723 [Taqulik Hepa, Responsible Party; Dr. Cheryl Rosa, Principal Investigator] has been issued a scientific research permit to collect and acquire marine mammal specimens from the following species: bearded seal (Erignathus barbatus), ringed seal (Phoca hispida), spotted seal (Phoca larga), and ribbon seal (Phoca fasciata), bowhead whale (Balaena mysticetus), beluga whale (Delphinapterus leucas), minke whale (Balaenoptera acutorostrata), and grey whale (Eschrichtius robustus).

ADDRESSES: The permit and related documents are available for review upon written request or by appointment in the following offices:

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Jennifer Skidmore or Amy Sloan, (301)713-2289.

SUPPLEMENTARY INFORMATION: On April 27, 2007, notice was published in the Federal Register (72 FR 20994) that a request for a scientific research permit to the marine mammal species identified above had been submitted by the above-named organization. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The tissues collected/acquired by the North Slope Borough Department of Wildlife Management under this permit would be utilized in a variety of health-related analyses, including (but not limited to): tissue histology, contaminants analyses (elemental analyses, PAH/organochlorine analyses etc.), infectious disease research (culture, PCR analyses), parasitology studies and stable isotope work. Additionally, tissues would be collected to augment the Alaskan Marine Mammal Tissue Archival Project (AMMTAP). No animals would be killed for the purpose of providing samples under this permit. Locations of collections would be from the Northwest Arctic Borough (St. Lawrence Island, Diomede, Wales and Kivalina) and the North Slope Borough, Alaska. This effort would provide critical baseline data and would be part of a long-term monitoring project being undertaken by the North Slope Borough Department of Wildlife Management in response to public concerns about the safety and health of their subsistence species. This permit has been issued for a period of 5 years.

In compliance with the National Environmental Policy Act of 1969 (42 U.S.C. 4321 et seq.), a final determination has been made that the activity proposed is categorically excluded from the requirement to prepare an environmental assessment or environmental impact statement.

Issuance of this permit, as required by the ESA, was based on a finding that such permit: (1) was applied for in good faith; (2) will not operate to the disadvantage of such endangered species; and (3) is consistent with the purposes and policies set forth in section 2 of the ESA.

Dated: July 18, 2007.
P. Michael Payne,
Chief, Permits, Conservation and Education Division, Office of Protected Resources, National Marine Fisheries Service.

[FR Doc. E7-14330 Filed 7-23-07; 8:45 am]

BILLING CODE 3510-22-S